DEPARTMENT OF ENERGY

Federal Energy Regulatory Commission

[Project No. 2816-050]

North Hartland, LLC; Notice of Application Tendered for Filing with the Commission and Soliciting Additional Study Requests and Establishing Procedural Schedule for Relicensing and a Deadline For Submission of Final Amendments

Take notice that the following hydroelectric application has been filed with the Commission and is available for public inspection.

a. Type of Application: New Major License.

b. Project No.: P-2816-050.

c. Date filed: November 26, 2019.

d. Applicant: North Hartland, LLC (North Hartland).

e. Name of Project: North Hartland Hydroelectric Project.

f. Location: On the Ottauquechee River in the town of Hartland, Windsor County, Vermont. The project occupies 20.8 acres of land managed by the U.S. Army Corps of Engineers (Corps).

g. Filed Pursuant to: Federal Power Act 16 U.S.C. 791(a)-825(r).

h. Applicant Contact: Andrew J. Locke, President, Essex Hydro Associates, LLC, 55 Union Street, Boston, MA 02108; Phone at (617) 367-0032, or email at alocke@essexhydro.com.

i. FERC Contact: Bill Connelly at (202) 502-8587, or william.connelly@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 25, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2816-050.

m. The application is not ready for environmental analysis at this time.

n. Project Description: The existing North Hartland Hydroelectric Project consists of: (1) A steel-lined intake structure in the Corps' North Hartland Dam that is equipped with 2-inch trashracks; (2) a 470-foot-long, 12-foot-diameter steel penstock that provides flow to a 4.0-megawatt (MW) adjustable blade, vertical shaft turbine-generator unit located inside of a 59-foot-long, 40-foot-wide concrete powerhouse; (3) a 12-foot-diameter bypass conduit that branches off of the 12-foot-diameter penstock about 100 feet before the powerhouse, and that empties into a 60-foot-long concrete-lined channel through a bypass control gate; (4) a 30-inch-diameter steel penstock that branches off of the 12-foot-diamater bypass conduit about 50 feet upstream of the bypass control gate, and that provides flow to a 0.1375-MW fixed geometry, horizontal pump turbine-generator unit located on a raised platform outside of the southern wall of the powerhouse; (5) a 400-foot-long, 50 to 150-foot-wide tailrace channel; (6) a transmission line that comprises an approximately 600-foot-long,12.5 kilovolt (kV) underground segment, and a 4,000-foot-long, 12.5-kV overhead segment that connect the generators to Green Mountain Power Corporation's Clay Hill Road Line 66 Transmission Project No. 12766; and (9) appurtenant facilities.

The project is managed to meet daily peak electrical system demand, as needed using the available head and reservoir outflow from Corps' North Hartland dam. The current license requires North Hartland to release a continuous minimum flow of 23 cubic feet per second (cfs) from July1 through October 31, and 40 cfs during the remainder of the year, or the inflow to the reservoir, whichever is less, for the purpose of protecting and enhancing aquatic resources in the Ottauquechee River. The project has an average annual generation of approximately 13,991,990 kilowatt-hours from 2014 through 2018.

North Hartland proposes to provide the following minimum and maximum flows, respectively: (1) 60 and 700 cfs, from October 1 through March 31; (2) 160 and 835 cfs, from April 1 through April 31; (3) 160 and 550 cfs, from May 1 through May 31; (4) 140 and 450 cfs, from June 1 through June 30; and (5) 60 and 300 cfs, from July 1 through September 30.

o. A copy of the application is available for review at the Commission in the Public Reference Room or may be viewed on the Commission's website at http://www.ferc.gov using the “eLibrary” link. Enter the docket number excluding the last three digits in the docket number field to access the document. For assistance, contact FERC Online Support. A copy is also available for inspection and reproduction at the town of Hartland's library, located at 153 Rt. 5, Hartland, VT.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—January 2020

Request Additional Information—January 2020

Issue Acceptance Letter—April 2020

Issue Scoping Document 1 for comments—May 2020

Request Additional Information (if necessary)—July 2020

Issue Scoping Document 2—August 2020

Issue Notice of Ready for Environmental Analysis—August 2020

Commission issues Environmental Assessment—February 2021

Final amendments to the application must be filed with the Commission no later than 30 days from the issuance date of the notice of ready for environmental analysis.

Dated: December 10, 2019.
Kimberly D. Bose,
Secretary.

[FR Doc. 2019-27018 Filed 12-13-19; 8:45 am]

BILLING CODE 6717-01-P